INTERNATIONAL TRADE COMMISSION

[Investigation No. 332-501]

Textile and Apparel Imports From China: Statistical Reports

AGENCY: United States International Trade Commission.

ACTION: Institution of investigation.

SUMMARY: Following receipt of a request on October 9, 2008, from the Committee on Ways and Means of the U.S. House of Representatives (Committee) under section 332(g) of the Tariff Act of 1930 (19 U.S.C. 1332(g)), the U.S. International Trade Commission (Commission) instituted investigation No. 332-501, Textile and Apparel Imports from China: Statistical Reports.

DATES: December 1, 2008: Submission of first report, including compilation of historical data.

Every 2 weeks: Statistical reports sent to the Committee every 2 weeks thereafter and posted on the Commission's Web site.

Annually: Publication of a compilation of monthly Census data.

ADDRESSES: All Commission offices, including the Commission's hearing rooms, are located in the United States International Trade Commission Building, 500 E Street SW., Washington, DC. Any written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader Donald Sussman (202-205-3331 or donald.sussman@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In its letter the Committee noted that the U.S.-China Memorandum of Understanding (MOU) Concerning Trade in Textile and Apparel Products expires on December 31, 2008. The Committee noted that the United States, in entering into the agreement in November 2005, sought to provide a more stable and predictable trading environment. The Committee expressed concern that a market disrupting surge in textile and apparel imports from China could occur after the MOU expires.

In order that the Committee might have accurate and timely information regarding the imports, the Committee requested that the Commission provide statistical reports every 2 weeks on the volume, value, unit value, and import market share of certain textile and apparel imports from China. Specifically, the Committee asked that the Commission compile these data for each product covered by the MOU at both the three-digit textile/apparel category level and at the 10-digit Harmonized Tariff Schedule level for each product within each of the three-digit textile/apparel categories. The Committee asked that the Commission, to the extent practicable and within a reasonable time after data become available, provide the Committee with preliminary Customs data once every 2 weeks and that the Commission post these reports on its Web site. The Committee also asked that the Commission include updated final Census data in the appropriate report when they become available. The Committee stated that it is not, at this time, requesting any analysis of the data, but rather is seeking the statistical data that will allow it to monitor the volume and unit values of textile and apparel imports from China to determine whether a more comprehensive investigation is appropriate. The Committee noted that the data the Commission provides already will have been compiled and available, and said that it is simply asking that they be reported in the format requested.

As requested by the Committee, the Commission will provide its first report by December 1, 2008, and this first report will include a historical compilation of the volume, value, unit value, and import market share of the articles specified above dating from January 1, 2003, to the most recent month available. As requested, the Commission will subsequently provide the Committee with reports as the preliminary and final data become available, and will publish a compilation of monthly Census data on an annual basis. The Committee asked that the Commission continue to provide these reports until such time that the Committee terminates or amends the request.

The Committee has requested that the Commission make its reports available to the public either on its Web site or in a published version. Consequently, the reports that the Commission sends to the Committee and posts on its Web site will not contain any confidential business information. Any confidential business information received by the Commission in this investigation and used in preparing its report will not be published in a manner that would reveal the operations of the firm supplying the information.

By order of the Commission.
Issued: October 31, 2008.
Marilyn R. Abbott,
Secretary.

[FR Doc. E8-26362 Filed 11-4-08; 8:45 am]

BILLING CODE 7020-02-P